DEPARTMENT OF HEALTH AND HUMAN SERVICES

Center for Disease Control and Prevention

[30Day-48-04]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: List of Ingredients Added to Tobacco in the Manufacture of Smokeless Tobacco Products, OMB No. 0920-0338—Reinstatement—National Center for Chronic Disease Prevention and Health Promotion (NCCDPHP), Centers for Disease Control and Prevention (CDC).

The Comprehensive Smokeless Tobacco Health Education Act of 1986 (15 U.S.C. 4401 et seq., Pub. L. 99-252) requires each person who manufactures, packages, or imports smokeless tobacco (SLT) products to provide the Secretary of Health and Human Services (HHS) with a list of ingredients added to tobacco in the manufacture of smokeless tobacco products. This legislation also authorizes HHS to undertake research, and submit an annual report to the Congress (as deemed appropriate), discussing the health effects of ingredients in smokeless tobacco products. HHS delegated responsibilities for the implementation of this Act to CDC's Office on Smoking and Health (OSH). The oral use of SLT represents a significant health risk which can cause cancer and a number of non-cancerous oral conditions, and can lead to nicotine addiction and dependence. Furthermore, SLT use is not a safe substitute for cigarette smoking. The estimated annualized burden is 254 hours.

Respondents | Number of respondents | Number of responses per respondent | Average burden per response (in hrs.)
Smokeless Tobacco Manufacturers | 6 | 1 | 42

Dated: April 28, 2004.
Alvin Hall,
Director, Management Analysis and Services Office, Centers for Disease Control and Prevention.

[FR Doc. 04-10292 Filed 5-5-04; 8:45 am]

BILLING CODE 4163-18-P